DEPARTMENT OF THE INTERIOR

Bureau of Ocean Energy Management, Regulation and Enforcement

[Docket No. BOEM-2011-0063]

Commercial Wind Lease Issuance and Site Characterization Activities on the Atlantic Outer Continental Shelf (OCS) Offshore Rhode Island and Massachusetts

AGENCY: Bureau of Ocean Energy Management, Regulation and Enforcement (BOEMRE), Interior.

ACTION: Notice of Intent to Prepare an Environmental Assessment.

SUMMARY: This notice is being published as an initial step for the purpose of involving Federal agencies, states, tribes, local government, offshore wind energy developers, and the public in the Department of the Interior's (DOI) “Smart from the Start” wind energy initiative. The purpose of the “Smart from the Start” wind energy initiative is to identify areas that may be most suitable for wind energy leasing on the OCS, and to obtain public and expert input that will inform the Department's decisionmaking with regard to issuing leases and approving site assessment activities in these areas, in accordance with the DOI and the Council on Environmental Quality (CEQ) regulations implementing the provisions of the National Environmental Policy Act (NEPA) of 1969 as amended (42 U.S.C. 4321 et seq.). On November 23, 2010, Secretary of the Interior Ken Salazar announced the “Smart from the Start” renewable energy initiative to accelerate the responsible development of renewable energy resources on the Atlantic OCS. The initiative focuses on the identification and refinement of areas on the OCS that are most suitable for renewable energy development (Wind Energy Areas (WEAs)), and utilizes coordinated environmental studies, large-scale planning processes, and expedited review processes within these areas to achieve an efficient and responsible renewable energy leasing process.

In consultation with other Federal agencies and the Rhode Island and Massachusetts Renewable Energy Task Forces, BOEMRE has identified an area for consideration for potential future wind energy leasing. This area, offshore Rhode Island and Massachusetts, is identified in the Commercial Leasing for Wind Power on the Outer Continental Shelf (OCS) Offshore Rhode Island and Massachusetts-Call for Information and Nominations (Call), which is being published concurrently with this notice. The area identified in the Call and this notice is located within the Area of Mutual Interest (AMI), as described by a Memorandum of Understanding (MOU) between the Governors of Rhode Island and Massachusetts.

More information on the task forces and the “Smart from the Start” initiative can be found at: http://www.boemre.gov/offshore/RenewableEnergy/StateActivitiesProjects.htm and http://www.doi.gov/news/pressreleases/Salazar-Launches-Smart-from-the-Start-Initiative-to-Speed-Offshore-Wind-Energy-Development-off-the-Atlantic-Coast.cfm.

BOEMRE intends to prepare an environmental assessment (EA), which will consider the environmental consequences associated with issuing commercial wind leases and approving site assessment activities on those leases (within all or some of this Call Area). The EA will not analyze or support development activities. If a successful lessee proposes development activity, the specific proposal will be given full review at that time. BOEMRE is seeking public input regarding the identification of the important environmental and/or socioeconomic issues and alternatives to be considered in the EA.

Authority: This Notice of Intent (NOI) to prepare an environmental assessment is published pursuant to 43 CFR 46.305.

FOR FURTHER INFORMATION CONTACT: Michelle Morin, BOEMRE Office of Offshore Alternative Energy Programs, 381 Elden Street, MS 4090, Herndon, Virginia 20170-4817, (703) 787-1340 or michelle.morin@boemre.gov.

SUPPLEMENTARY INFORMATION:

1. The OCS Wind Energy Leasing and Development Process

There are three key phases of the wind energy leasing and development process on the OCS: (1) Lease issuance; (2) approval of a site assessment plan (SAP); and (3) approval of a construction and operation plan (COP). The first phase, issuance of a commercial renewable energy lease, gives the lessee an exclusive right to apply for approval of subsequent plans, the approval of which is necessary for a lessee to advance to the next stage of the renewable energy development process. The second phase is the applicant's submission, and BOEMRE's subsequent review and approval of a SAP. Approval of a SAP would allow the lessee to construct and install a meteorological tower and/or buoys on the leasehold. See 30 CFR 285.600-285.601; 285.605-285.618. After the lessee has collected sufficient site characterization and assessment data, the lessee may submit a COP, the review of which could authorize the actual construction and operation of a renewable energy facility on the lease. See 30 CFR 285.620-285.629. Although BOEMRE does not authorize site characterization activities (i.e., geological and geophysical surveys and core samples), a lessee must submit the results of such surveys before BOEMRE can consider its COP. See 30 CFR 285.626.

2. Proposed Action and Scope of Analysis

The proposed action that will be the subject of the EA is the issuance of renewable energy leases within all or some of the Call Area described in this Notice, and the approval of site assessment activities on those leases (i.e., Phases 1 and 2 of the wind energy leasing and development process). BOEMRE will also consider in the EA the environmental impacts associated with the site characterization activities that it anticipates lessees might eventually undertake to fulfill the COP information requirements at 30 CFR 285.626.

The EA will not, however, be used to support any future decision regarding the approval of the construction or operation of any wind energy facility on leases that may be issued within all or some of this Call Area. BOEMRE is not currently considering any such plan, nor has any plan been submitted. If and when a lessee is ready to begin this third phase of renewable energy development, it will submit a COP. If a COP is submitted for a particular project on a lease, a separate site- and project-specific NEPA analysis would be prepared. This would take the form of an Environmental Impact Statement (EIS) and would provide additional opportunities for public involvement pursuant to NEPA and the CEQ regulations at 40 CFR parts 1500-1508. Such an EIS process would provide the public and Federal officials with comprehensive site- and project-specific information, and the EIS would consider the reasonably foreseeable environmental impacts of the specific project that the lessee is proposing. These potential impacts will be taken into account when deciding whether to approve, approve with modification, or deny the COP pursuant to 30 CFR 285.628.

The EA, which is the subject of this notice, will consider the environmental consequences associated with reasonably foreseeable leasing scenarios (not development itself), reasonably foreseeable site characterization scenarios within these lease areas (including geophysical, geotechnical, archeological, and biological surveys), and reasonably foreseeable site assessment scenarios (including the installation and operation of meteorological towers and buoys) on the leases that may be issued within all or some of the Call Area. At a minimum, the alternatives that will be considered are: no action (i.e., no issuance of leases or approval of site assessment activities); and the issuance of leases and approval of site assessment activities within the areas described in Section 4 of this Notice. BOEMRE is therefore soliciting input on the environmental issues and alternatives to be considered in the EA related to the potential environmental effects of the activities described above.

Federal, state, and local government agencies, tribal governments, and other interested parties may assist BOEMRE in determining the issues and any additional alternatives to be analyzed in the EA. Input is also requested on measures (e.g., limitations on activities based on technology, distance from shore, or timing) that would mitigate impacts to environmental resources and socioeconomic conditions that could result from leasing, site characterization, and site assessment in and around the Call Area described below. Consultation with other Federal agencies, tribal governments, and affected states will be carried out during the EA process and will be completed before a final decision is made on whether any particular lease will be issued or site assessment activities on those leases approved.

If BOEMRE determines during the EA process that issuing leases and conducting site characterization and assessment activities offshore within the Call Area would result in significant environmental impacts, then BOEMRE would publish a NOI to prepare an EIS for the issuance of renewable energy leases and approval of site assessment activities within all or some of this Call Area. If BOEMRE determines during the EA process that issuing leases and conducting site characterization and assessment activities within all or some of this Call Area would not result in significant environmental impacts, then BOEMRE would issue a Finding of No Significant Impact (FONSI). After either a FONSI is issued or the EIS process is completed, BOEMRE may issue one or more renewable energy leases within all or some of this Call Area. In the event that a particular lease is issued, and the lessee submits a SAP, BOEMRE will determine whether the EA adequately considers the environmental consequences of the activities proposed in the lessee's SAP. If the analysis in the EA adequately addresses these consequences, then no further NEPA analysis would be required before the SAP is approved. If that analysis is inadequate, additional NEPA analysis would be conducted before the SAP could be approved.

3. Information That Will Be Incorporated Into the EA

On November 6, 2007, BOEMRE published a Notice of Availability in the Federal Register (72 FR 62,672) of the Programmatic EIS for Alternative Energy Development and Production and Alternate Use of Facilities on the Outer Continental Shelf, Final EIS (OCS Report MMS 2007-046) (Programmatic EIS). On June 26, 2009, BOEMRE published a Notice of Availability in the Federal Register (74 FR 30,616) of the EA for Issuance of Leases for Wind Resource Data Collection on the Outer Continental Shelf Offshore Delaware and New Jersey (OCS EIS/EA MMS 2009-025) (Interim Policy EA), which addressed similar activities.

BOEMRE will incorporate the environmental and socioeconomic analyses of site characterization and assessment activities from the Programmatic EIS, Interim Policy EA, and other public information to inform its analysis in the EA. The EA will be developed using many of the principles of coastal and marine spatial planning, such as comprehensive interagency coordination, to identify information needs for COP submittals necessary for future decisionmaking regarding wind energy development.

4. Description of the Call Area

BOEMRE has identified an area for consideration for potential future wind energy leasing in consultation with other Federal agencies and the Rhode Island and Massachusetts Renewable Energy Task Forces. The area identified in the Call and this notice is located within the AMI, as described by a MOU between the Governors of Rhode Island and Massachusetts. The Call Area is divided into two areas separated by an existing traffic separation scheme. A detailed description of the area can be found in the Call that is published concurrently with this notice.

Map of the Call Area

A map of the area can be found at the following URL: http://www.boemre.gov/offshore/RenewableEnergy/StateActivities-RhodeIsland.htm.

A large-scale map of the Call Area showing boundaries of the area with numbered blocks is available from BOEMRE at the following address: Bureau of Ocean Energy Management, Regulation and Enforcement, Office of Offshore Alternative Energy Programs, 381 Elden Street, Mail Stop 4090, Herndon, Virginia 20170, Phone: (703) 787-1320.

Based on the information submitted in response to this notice and the aforementioned Call, BOEMRE would identify an area in which interest exists, and which will be subject to environmental analysis, in consultation with appropriate Federal agencies, states, local governments, tribes and other interested parties. The area identified will constitute a WEA under the “Smart from the Start” initiative, which will be the area analyzed in the EA.

5. Cooperating Agencies

BOEMRE invites other Federal agencies and state, tribal, and local governments to consider becoming cooperating agencies in the preparation of this EA. CEQ regulations implementing the procedural provisions of NEPA define cooperating agencies as those with “jurisdiction by law or special expertise” (40 CFR 1508.5). Potential cooperating agencies should consider their authority and capacity to assume the responsibilities of a cooperating agency and to remember that an agency's role in the environmental analysis neither enlarges nor diminishes the final decisionmaking authority of any other agency involved in the NEPA process.

Upon request, BOEMRE will provide potential cooperating agencies with a draft Memorandum of Agreement that includes a schedule with critical action dates and milestones, mutual responsibilities, designated points of contact, and expectations for handling predecisional information. Agencies should also consider the “Factors for Determining Cooperating Agency Status” in Attachment 1 to CEQ's January 30, 2002, Memorandum for the Heads of Federal Agencies: Cooperating Agencies in Implementing the Procedural Requirements of the NEPA. A copy of this document is available at: http://ceq.hss.doe.gov/nepa/regs/cooperating/cooperatingagenciesmemorandum.html and http://ceq.hss.doe.gov/nepa/regs/cooperating/cooperatingagencymemofactors.html.

BOEMRE, as the lead agency, will not provide financial assistance to cooperating agencies. Even if an organization is not a cooperating agency, opportunities will exist to provide information and comments to BOEMRE during the normal public input phases of the NEPA/EA process.

6. Comments

Federal, state, local government agencies, tribal governments, and other interested parties are requested to send their written comments regarding environmental issues and the identification of reasonable alternatives related to the proposed actions described in this notice in one of the following ways:

1. Electronically: http://www.regulations.gov. In the entry titled “Enter Keyword or ID,” enter BOEM-2011-0063, then click “search.” Follow the instructions to submit public comments and view supporting and related materials available for this document.

2. In written form, delivered by hand or by mail, enclosed in an envelope labeled “Comments on Rhode Island and Massachusetts EA” to Program Manager, Office of Offshore Alternative Energy Programs (MS 4090), Bureau of Ocean Energy Management, Regulation and Enforcement, 381 Elden Street, Herndon, Virginia 20170. Comments should be submitted no later than October 3, 2011.

Dated: July 27, 2011.
Robert P. LaBelle,
Acting Associate Director for Offshore Energy and Minerals Management.

[FR Doc. 2011-21142 Filed 8-17-11; 8:45 am]

BILLING CODE 4310-MR-P